DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 1, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
City and Borough of Sitka, Alaska
Docket No.: FEMA-B-1667
City and Borough of Sitka | 100 Lincoln Street, Sitka, AK 99835.
DuPage County, Illinois and Incorporated Areas
Docket No.: FEMA-B-1773
City of Aurora | City Hall, Engineering Department, 44 East Downer Place, Aurora, IL 60505.
City of Chicago | Department of Buildings, Stormwater Management, 121 North LaSalle Street, Room 906, Chicago, IL 60602.
City of Darien | City Hall, 1702 Plainfield Road, Darien, IL 60561.
City of Elmhurst | City Hall, 209 North York Street, Elmhurst, IL 60126.
City of Naperville | City Hall, 400 South Eagle Street, Naperville, IL 60540.
City of Oakbrook Terrace | City Hall, 17W275 Butterfield Road, Oakbrook Terrace, IL 60181.
City of Warrenville | City Hall, 28W701 Stafford Place, Warrenville, IL 60555.
City of West Chicago | City Hall, 475 Main Street, West Chicago, IL 60185.
City of Wheaton | City Hall, 303 West Wesley Street, Wheaton, IL 60187.
City of Wood Dale | City Hall, 404 North Wood Dale Road, Wood Dale, IL 60191.
Unincorporated Areas of DuPage County | County Administration Building, Stormwater Management, 421 North County Farm Road, Wheaton, IL 60187.
Village of Addison | Village Hall, 1 Friendship Plaza, Addison, IL 60101.
Village of Bartlett | Village Hall, 228 South Main Street, Bartlett, IL 60103.
Village of Bensenville | Village Hall, 12 South Center Street, Bensenville, IL 60106.
Village of Bloomingdale | Village Hall, 201 South Bloomingdale Road, Bloomingdale, IL 60108.
Village of Bolingbrook | Village Hall, 375 West Briarcliff Road, Bolingbrook, IL 60440.
Village of Burr Ridge | Village Hall, 7660 County Line Road, Burr Ridge, IL 60527.
Village of Carol Stream | Village Hall, 505 East North Avenue, Carol Stream, IL 60188.
Village of Clarendon Hills | Village Hall, 1 North Prospect Avenue, Clarendon Hills, IL 60514.
Village of Downers Grove | Village Hall, 801 Burlington Avenue, Downers Grove, IL 60515.
Village of Elk Grove Village | Village Hall, 901 Wellington Avenue, Elk Grove Village, IL 60007.
Village of Glendale Heights | Village Hall, 300 Civic Center Plaza, Glendale Heights, IL 60139.
Village of Glen Ellyn | Village Hall, 535 Duane Street, Glen Ellyn, IL 60137.
Village of Hanover Park | Village Hall, 2121 Lake Street, Hanover Park, IL 60133.
Village of Hinsdale | Village Hall, 19 East Chicago Avenue, Hinsdale, IL 60521.
Village of Itasca | Village Hall, 550 West Irving Park Road, Itasca, IL 60143.
Village of Lemont | Village Hall, 418 Main Street, Lemont, IL 60439.
Village of Lisle | Village Hall, 925 Burlington Avenue, Lisle, IL 60532.
Village of Lombard | Village Hall, 255 East Wilson Avenue, Lombard, IL 60148.
Village of Oak Brook | Village Hall, 1200 Oak Brook Road, Oak Brook, IL 60523.
Village of Roselle | Village Hall, 31 South Prospect Street, Roselle, IL 60172.
Village of Schaumburg | Village Hall, 101 Schaumburg Court, Schaumburg, IL 60193.
Village of Villa Park | Village Hall, 20 South Ardmore Avenue, Villa Park, IL 60181.
Village of Wayne | Village Hall, 5N430 Railroad Street, Wayne, IL 60184.
Village of Westmont | Village Hall, 31 West Quincy Street, Westmont, IL 60559.
Village of Willowbrook | Village Hall, 835 Midway Drive, Willowbrook, IL 60527.
Village of Winfield | Village Hall, 27W465 Jewell Road, Winfield, IL 60190.
Village of Woodridge | Village Hall, 5 Plaza Drive, Woodridge, IL 60517.
Hamilton County, Nebraska and Incorporated Areas
Docket No.: FEMA-B-1813
City of Aurora | City Hall, 905 13th Street, Aurora, NE 68818.
Unincorporated Areas of Hamilton County | Hamilton County Courthouse, 1111 13th Street, Aurora, NE 68818.
Village of Giltner | Village Office, 4021 North Commercial Avenue, Giltner, NE 68841.
Village of Hampton | Village Clerk's Office, 126 North 3rd Street, Hampton, NE 68843.
Village of Hordville | First State Bank, 201 Main Street, Hordville, NE 68846.
Village of Marquette | Village Office, 302 Marquis Avenue, Marquette, NE 68854.
Village of Stockham | Town Hall, 304 Main Street, Stockham, NE 68818.
Village of Trumbull | Village Office, 131 Main Street, Trumbull, NE 68980.
York County, Nebraska and Incorporated Areas
Docket No.: FEMA-B-1813
City of Henderson | City Hall, 1044 North Main Street, Henderson, NE 68371.
City of York | Municipal Building, 100 East 4th Street, York, NE 68467.
Unincorporated Areas of York County | York County Courthouse, 510 North Lincoln Avenue, York, NE 68467.
Village of Benedict | Village Office, 206 Sherman Street, Benedict, NE 68316.
Village of Bradshaw | Village Office, 455 Lincoln Street, Bradshaw, NE 68319.
Village of Gresham | Village Office, 310 Elm Street, Gresham, NE 68367.
Village of McCool Junction | Village Office, 323 East M Street, McCool Junction, NE 68401.
Village of Thayer | Village of Thayer Clerk's Office, 401 4th Street, Waco, NE 68460.
Village of Waco | Village Office, 403 Midland Street, Waco, NE 68460.

[FR Doc. 2019-08813 Filed 4-30-19; 8:45 am]

BILLING CODE 9110-12-P